DEPARTMENT OF ENERGY

10 CFR Parts 429 and 430

[Docket No. EERE-2010-BT-TP-0039]

RIN 1904-AC01

Energy Conservation Program: Test Procedures for Residential Dishwashers, Dehumidifiers, and Conventional Cooking Products; Correction.

AGENCY: Office of Energy Efficiency and Renewable Energy, Department of Energy.

ACTION: Final rule; correction.

SUMMARY: The Department of Energy is correcting a final rule that appeared in the Federal Register of October 31, 2012. The rule established new test procedures for residential dishwashers and dehumidifiers, and amended the currently applicable test procedure for conventional cooking products under the Energy Policy and Conservation Act.

DATES: The effective date of this rule is December 17, 2012.

FOR FURTHER INFORMATION CONTACT:

Ms. Ashley Armstrong, U.S. Department of Energy, Office of Energy Efficiency and Renewable Energy, Building Technologies Program, EE-2J, 1000 Independence Avenue SW., Washington, DC 20585-0121. Telephone: (202) 586-6590. Email: Ashley.Armstrong@ee.doe.gov.

Ms. Elizabeth Kohl, U.S. Department of Energy, Office of the General Counsel, GC-71, 1000 Independence Avenue SW., Washington, DC 20585-0121. Telephone: (202) 586-7796. Email: Elizabeth.Kohl@hq.doe.gov.

SUPPLEMENTARY INFORMATION:

Procedural Issues and Regulatory Review

The regulatory reviews conducted for this rulemaking are those set forth in the October 31, 2012 final rule. (77 FR 65941)

Pursuant to the Administrative Procedure Act, 5 U.S.C. 553(b), DOE has determined that notice and prior opportunity for comment on this rule are unnecessary and contrary to the public interest. The instruction is being revised to delete reference to adding section 3.1.3.3 because there is no accompanying text for such a section; the insertion was made in error. DOE has determined that there is good cause to waive the 30-day delay in effective date for these same reasons.

Correction

In FR Doc. 2012-25645, appearing on page 65941 in the Federal Register of Wednesday, October 31, 2012, the following correction is made:

Appendix I to Subpart B of Part 430 [Corrected]

On page 65987, in the second column, the language of amendatory instruction 11.d.4, “Adding sections 3.1.3, 3.1.3.1, 3.1.3.2, and 3.1.3.3;” is corrected to read as follows: “Adding sections 3.1.3, 3.1.3.1, and 3.1.3.2;”

Issued in Washington, DC, on November 16, 2012.
Kathleen B. Hogan,
Deputy Assistant Secretary for Energy Efficiency, Energy Efficiency and Renewable Energy.

[FR Doc. 2012-28451 Filed 11-21-12; 8:45 am]

BILLING CODE 6450-01-P